DEPARTMENT OF COMMERCE

National Oceanic and Atmospheric Administration

DEPARTMENT OF THE INTERIOR

Fish and Wildlife Service

[I.D. 051602B]

Notice of Public Scoping and Preparation of an Environmental Impact Statement for a Middle Fork Nooksack River Habitat Conservation Plan

AGENCY: National Marine Fisheries Service, National Oceanic and Atmospheric Administration, Commerce; Fish and Wildlife Service, Interior.

ACTION: Notice of intent.

SUMMARY: Pursuant to the National Environmental Policy Act, this notice advises the public that the Fish and Wildlife Service and National Marine Fisheries Service (Services) intend to gather information necessary to prepare an Environmental Impact Statement (Statement). The Statement will examine the proposed approval of a Habitat Conservation Plan (Plan) and issuance of an incidental take permit (Permit) to take threatened species in accordance with the Endangered Species Act of 1973, as amended (Act). The Permit applicant is the City of Bellingham (City). The application is related to water withdrawals from the Middle Fork Nooksack River and Lake Whatcom, and related activities located in Whatcom County, Washington. The applicant intends to request Permits for chinook salmon, bull trout, and Dolly varden, which are listed as threatened under the Act. The City also plans to seek coverage for coho salmon and eight other currently unlisted fish and wildlife species under specific provisions of the Permit, should these species be listed in the future. In accordance with the Act, the City will prepare a Plan for, among other things, minimizing and mitigating any such take that could occur incidental to the proposed Permit activities.

The Services are furnishing this notice to: advise other agencies and the public of our intentions; and to obtain suggestions and information on the scope of issues to include in the environmental document.

DATES: Written comments from all interested parties must be received on or before July 1, 2002. A public scoping meeting will be held June 6, 2002, 6:30-9 p.m.

ADDRESSES: The scoping meeting will be held at the City of Bellingham Public Works Building (Training Room Facility), 2221 Pacific Street, Bellingham, WA. Comments and requests for information should be sent to Mark Ostwald, Project Manager, U.S. Fish and Wildlife Service, 510 Desmond Drive, S.E., Suite 102, Lacey, Washington 98503-1273, facsimile (360) 753-9518; or Tom Sibley, Project Manager, National Marine Fisheries Service, 7600 Sand Point Way, N.E., Seattle, Washington, 98115, facsimile (206) 526-4746. Comments will not be accepted if submitted via e-mail or the Internet.

FOR FURTHER INFORMATION CONTACT: Mark Ostwald, telephone (360) 753-9564; or Tom Sibley, telephone (206) 526-4656.

SUPPLEMENTARY INFORMATION: Section 9 of the Endangered Species Act and Federal regulations prohibit the “taking” of a species listed as endangered or threatened. The term take is defined under the Act to mean harass, harm, pursue, hunt, shoot, wound, kill, trap, capture, or collect, or to attempt to engage in any such conduct. Harm is defined by the U.S. Fish and Wildlife Service to include significant habitat modification or degradation where it actually kills or injures wildlife by significantly impairing essential behavioral patterns, including breeding, feeding, and sheltering (50 CFR 17.3). The National Marine Fisheries Service's definition of harm includes significant habitat modification or degradation where it actually kills or injures fish or wildlife by significantly impairing essential behavioral patterns, including breeding, spawning, rearing, feeding, and sheltering (64 FR 60727, November 8, 1999).

The Services may issue permits, under limited circumstances; to take listed species incidental to, and not the purpose of, otherwise lawful activities. U.S. Fish and Wildlife Service regulations governing permits for endangered species are promulgated in 50 CFR 17.22; and, regulations governing permits for threatened species are promulgated in 50 CFR 17.32. National Marine Fisheries Service regulations governing permits for threatened and endangered species are promulgated at 50 CFR 222.307.

Background

The City of Bellingham owns and operates a diversion dam on the Middle Fork Nooksack River, a water withdrawal facility on Lake Whatcom, and a water treatment facility near Lake Whatcom. These facilities are located in and adjacent to the City of Bellingham, which is located in Whatcom County, WA. Water is diverted from the Middle Fork Nooksack River at the City's diversion dam, transported via underground pipeline and an above ground canal to the upper end of Lake Whatcom where the water is stored. Withdrawal of water for treatment and ultimate municipal and industrial use occurs near the lower end of Lake Whatcom.

Some of these water withdrawal and related activities have the potential to impact species subject to protection under section 9 of the Act, as described above. Section 10 of the Act contains provisions for the issuance of permits to non-federal landowners for the take of endangered and threatened species, provided the take is incidental to otherwise lawful activities, and will not appreciably reduce the likelihood of the survival and recovery of the species in the wild. In addition, the applicant must prepare and submit to the Services for approval, a Plan containing a strategy for minimizing and mitigating all take associated with the proposed activities to the maximum extent practicable. The applicant must also ensure that adequate funding for the Plan will be provided.

The City of Bellingham has initiated discussions with the Services regarding the possibility of developing a Plan and securing a Permit for their water withdrawal from the Middle Fork Nooksack and Lake Whatcom and related activities. Activities proposed for coverage under the Permit include the following:

(1) Diversion of water from the Middle Fork Nooksack River to Lake Whatcom, storage of water in Lake Whatcom, withdrawal of water from Lake Whatcom, and transport of water to the City of Bellingham's water treatment plant.

(2) Maintenance and operation of the City of Bellingham's Middle Fork Diversion Dam, including dam repairs, screens (as appropriate), and a fish ladder (as appropriate).

(3) Maintenance and operation of the City of Bellingham's Lake Whatcom withdrawal system from the water intake to, but not including, the water treatment plant; and regulation of discharge to Whatcom Creek.

(4) Maintenance of water supply capacity and operational flexibility necessary for efficient water supply operations that minimize and/or avoid operational disruptions.

The Services will conduct an environmental review of the proposed Plan and prepare a Statement. The environmental review will analyze the proposal, as well as a full range of reasonable alternatives and the associated impacts of each. The Services are currently in the process of developing alternatives for analysis.

Comments and suggestions are invited from all interested parties to ensure that the full range of alternatives related to this proposed action and all significant issues are identified. Comments or questions concerning this proposed action and the environmental review should be directed to the Fish and Wildlife Service or National Marine Fisheries Service [see ADDRESSES]. All comments and materials received, including names and addresses, will become part of the administrative record and may be released to the public.

The environmental review of this project will be conducted in accordance with the requirements of the National Environmental Policy Act of 1969, as amended (42 U.S.C. 4321 et seq.), National Environmental Policy Act Regulations (40 CFR parts 1500-1508), other appropriate Federal laws and regulations, and policies and procedures of the Services for compliance with those regulations.

Dated: May 23, 2002.
Anne Badgley,
Regional Director, Fish and Wildlife Service, Region 1, Portland, Oregon.
Dated: May 23, 2002.
Phil Williams,
Chief, Endangered Species Division, Office of Protected Resources, National Marine Fisheries Service.

[FR Doc. 02-13558 Filed 5-29-02; 8:45 am]

BILLING CODE 3510-22-S, 4310-55-S